DEPARTMENT OF TRANSPORTATION

Federal Highway Administration

[Docket No.: FHWA-2025-0010]

RIN 2125-ZA30

National Electric Vehicle Infrastructure Formula Program Guidance

AGENCY: Federal Highway Administration (FHWA), U.S. Department of Transportation (DOT).

ACTION: Notice; Request for comments.

SUMMARY: This notice announces the availability of FHWA's revised National Electric Vehicle Infrastructure (NEVI) Formula Program Interim Final Guidance. This Interim Final Guidance updates the existing NEVI Formula Program Guidance to align with clear and express statutory language in order to streamline and provide flexibility for implementation of the program. This Interim Final Guidance is effective immediately while FHWA seeks comment on what further changes may be appropriate.

DATES: This Interim Final Guidance document is effective on August 13, 2025. Comments must be received on or before August 27, 2025. Late-filed comments will be considered to the extent practicable.

ADDRESSES: To ensure that you do not duplicate your docket submissions, please submit comments by only one of the following means:

• Federal eRulemaking Portal: www.regulations.gov. This website allows the public to enter comments on any Federal Register notice issued by any agency. Follow the online instructions for submitting comments.

• Mail: U.S. Department of Transportation, Docket Operations, M-30, West Building Ground Floor, Room W12-140, 1200 New Jersey Avenue SE, Washington, DC 20590-0001.

• Hand Delivery: U.S. Department of Transportation, Docket Operations, West Building Ground Floor, Room W12-140, 1200 New Jersey Avenue SE, Washington, DC 20590 between 9 a.m. and 5 p.m., ET, Monday through Friday, except Federal holidays. The telephone number is (202) 366-9329.

• Instructions: You should identify the agency name and the docket number at the beginning of your comments. Late comments will be considered to the extent practicable. Note that all comments received will be posted without change to www.regulations.gov, including any personal information provided.

FOR FURTHER INFORMATION CONTACT: Mr. Gary Jensen, Office of Natural Environment, (202) 763-4330, gary.jensen@dot.gov, or Ms. Dawn Horan, Office of Chief Counsel, (202) 366-9615, Dawn.m.Horan@dot.gov. Office hours are from 9:00 a.m. to 5:00 p.m., ET, Monday through Friday, except Federal holidays.

SUPPLEMENTARY INFORMATION:

Electronic Access

A copy of the Guidance is available for download and public inspection through www.regulations.gov using the docket number listed above. Electronic retrieval assistance and guidelines are also available at www.regulations.gov. An electronic copy of this document also may be downloaded from the Office of the Federal Register's website at: www.FederalRegister.gov and the U.S. Government Publishing Office's website at: www.GovInfo.gov.

Background

The Infrastructure Investment and Jobs Act (IIJA), Public Law 117-58, established the NEVI Formula Program. The Program was authorized under paragraph (2) under the Highway Infrastructure Program heading in title VIII of division J of the IIJA.

The Program provides $5 billion of funding to States to deploy electric vehicle (EV) charging infrastructure and establish an interconnected network to facilitate data collection, access, and reliability. Initially, funding under the Program is directed to infrastructure acquired or installed along designated electric vehicle (EV) Alternative Fuel Corridors (AFCs). When the State determines and the Secretary certifies that AFCs in a State are fully built out, funding may be used for EV charging infrastructure on any public road or in other publicly accessible locations.

Since the passage of the IIJA, FHWA has issued a number of guidance documents to implement the NEVI Formula, including but not limited to:

• December 11, 2024, Build Out Certification—NEVI Formula Program Guidance

• June 11, 2024, NEVI Formula Program Guidance

• February 27, 2024, Method for Submitting Electric Vehicle Charger Data under 23 CFR 680.112

• State EV Deployment Plan Exception Requests

• State Plan/State Plan Update for EV Infrastructure Deployment Template

Consistent with President Trump's commitment to ending unlawful, unnecessary, and onerous requirements, FHWA is reviewing its existing regulations and guidance documents for alignment with law and Administration priorities. This Interim Final Guidance aligns with Executive Order 14154 “Unleashing American Energy,” to eliminate previous mandates for EV charging infrastructure and potential burdens. In addition, per the January 29, 2025, memorandum from the Secretary of Transportation on the Implementation of Executive Orders Addressing Energy, Climate Change, Diversity, and Gender, this Guidance rescinds previous guidance and policy that is not required by clear and express statutory language. FHWA believes that this Interim Final Guidance provides flexibility to the States for implementation of the program.

Summary of Changes

FHWA made several changes to the previously released NEVI guidance document dated June 11, 2024. Changes include, but are not limited to:

• Minimizing the content required in State plans to statutory and regulatory requirements.

• Simplifying the plan approval process.

• Aligning community engagement requirements with regulatory requirements and reducing the consultation requirements to advance projects.

• Providing States with the flexibility to determine the appropriate distance between stations along alternative fuel corridors to allow for reasonable travel.

• Minimizing requirements for States to consider electric grid integration, renewable energy, and alignment with electric distribution interconnection processes, except where required by regulation.

• Encouraging selection of charging locations where the charging station owners are also the site host to accelerate project delivery.

• Eliminating requirements for States to address consumer protections, emergency evacuation plans, environmental siting, resilience and terrain considerations.

• Providing States with more flexibility in determining when their system is built out allowing NEVI funds to be used on public roads statewide.

Request for Comments

Although the Interim Final Guidance is effective immediately, FHWA invites comments on this Guidance, which is available in the docket for this notice. FHWA will consider substantive comments received on the Interim Final Guidance and will consider whether any further changes are needed based on comments received.

Authority: Public Law 117-58, title VIII of division J.

Gloria M. Shepherd,
Executive Director, Federal Highway Administration.

[FR Doc. 2025-15370 Filed 8-12-25; 8:45 am]

BILLING CODE 4910-22-P